DEPARTMENT OF HEALTH AND HUMAN SERVICES

Hospital Preparedness Program (HPP)

AGENCY: Office of the Assistant Secretary for Preparedness and Response, ASPR (HHS).

ACTION: Notice.

SUMMARY: This notice sets forth the Secretary's proposal to require Hospital Preparedness Program (HPP) cooperative agreement recipients to contribute non-federal matching funds starting with the FY 2009 funding cycle and each year thereafter. The amount of the cost sharing requirement in FY 2009 will be five percent of the award amount and in FY 2010 and each year thereafter the amount of match will be ten percent of the award amount.

DATES: To be considered, comments on this notice must be submitted by June 16, 2008. Subject to consideration of the comments submitted, the Department intends to publish a final notice of any cost sharing requirement.

ADDRESSES: See Supplementary Information, Request for Comments section for addresses for submitting all comments concerning this proposal.

FOR FURTHER INFORMATION CONTACT: CDR Melissa Sanders, Team Leader, Healthcare Systems Preparedness Program, 202-245-0763

SUPPLEMENTARY INFORMATION: Authorized by section 319C-2 of the Public Health Service (PHS) Act, as amended by the Pandemic and All-Hazards Preparedness Act (PAHPA) (Pub. L. 109-417), the HPP is a cooperative agreement program funded and administered by the Assistant Secretary for Preparedness and Response (ASPR). Its purpose is to improve surge capacity and enhance community and hospital preparedness for public health emergencies.

Currently there are 62 awardees comprised of the 50 States; the District of Columbia; the three metropolitan areas of New York City, Los Angeles County and Chicago; the Commonwealths of Puerto Rico and the Northern Mariana Islands; the territories of American Samoa, Guam and the U.S. Virgin Islands; the Federated States of Micronesia; and the Republics of Palau and the Marshall Islands.

Since the inception of the program in 2002 awardees have received funding through a statutory formula that employs a base allocation with an adjustment for population. PAHPA amended section 319C-1 and 319C-2 of the PHS Act to add certain accountability provisions.

Consistent with those accountability provisions, this notice proposes to introduce a cost sharing requirement for the HPP program as a concrete way of solidifying collaboration between States and the Federal government in assuring this program will achieve enhanced sustainability in healthcare system preparedness during and after the project period has ended.

ASPR proposes that awardees will make available, either directly or through donations from public or private entities non-Federal contributions in an amount equal to five percent of the award amount in FY 2009 and ten percent of the award amount in FY 2010 and each successive year for the duration of the program. Non-Federal contributions would be provided directly or through donations from public or private entities and may be in cash or in kind, fairly evaluated, including plant, equipment or services. Amounts provided by the Federal government, or services assisted or subsidized to any significant extent by the Federal government, would not be included in determining the amount of such non-Federal contributions.

The cost sharing requirement would apply to the entire award amount received by the State from the U.S. Department of Health and Human Services through the HPP.

The cost sharing requirement would be implemented as a term and condition of the HPP award.

Request for Comments: The ASPR invites public comment on this notice to add a cost sharing requirement to the HPP. You may submit comments in one of three ways (please choose only one of the ways listed):

• E-mail: CDR Melissa Sanders, melissa.sanders@hhs.gov.

• Mail: CDR Melissa Sanders, Team Leader, Healthcare Systems Preparedness Programs, HSS/OS/ASPR, 395 E Street, SW., 10th Floor, Suite 1075, Washington, DC 20201

• Hand Delivery/Courier: CDR Melissa Sanders, Team Leader, Healthcare Systems Preparedness Programs, HSS/OS/ASPR, 395 E Street., SW., 10th Floor, Suite 1075, Washington, DC 20201

Dated: May 9, 2008.
RADM W. Craig Vanderwagon,
Assistant Secretary for Preparedness and Response, Office of the Secretary, Department of Health and Human Services.

[FR Doc. E8-10970 Filed 5-15-08; 8:45 am]

BILLING CODE 4150-45-P